DEPARTMENT OF COMMERCE

National Telecommunications and Information Administration

Public Wireless Supply Chain Innovation Fund Listening Session

AGENCY: National Telecommunications and Information Administration, Department of Commerce.

ACTION: Notice of open meeting.

SUMMARY: The National Telecommunications and Information Administration (NTIA) will convene a virtual industry roundtable listening session on the Public Wireless Supply Chain Innovation Fund. The listening session is designed to collect stakeholder input to help inform the development and administration of the Innovation Fund grant program.

DATES: The listening session will be held on January 24, 2023, from 10:00 a.m. to 12:30 p.m., Eastern Standard Time.

ADDRESSES: The session will be held virtually, with online slide share and dial-in information to be posted at https://www.ntia.gov/.

FOR FURTHER INFORMATION CONTACT: Please direct questions regarding this Notice to innovationfund@ntia.gov, indicating “Innovation Fund Listening Session” in the subject line, or if by mail, addressed to National Telecommunications and Information Administration, U.S. Department of Commerce, 1401 Constitution Avenue NW, Washington, DC 20230; telephone: 202-482-3806. Please direct media inquiries to Sarah Skaluba, (202) 482-7002, or NTIA's Office of Public Affairs, press@ntia.gov.

SUPPLEMENTARY INFORMATION: Background and Authority: On August 9, 2022, President Biden signed the CHIPS and Science Act of 2022 into law, appropriating $1.5 billion for the Public Wireless Supply Chain Innovation Fund (referred to subsequently herein as the “Innovation Fund”), to support the promotion and deployment of open, interoperable, and standards-based radio access networks (RAN) (Pub. L. 117-167, Div. A, Sect. 106, 136 Stat. 1392). The Innovation Fund is authorized under section 9202(a)(1) of the William M. (Mac) Thornberry National Defense Authorization Act for Fiscal Year 2021 (Pub. L. 116-283; 47 U.S.C. 906(a)(1)). This historic investment aims to support U.S. leadership in the global telecommunications ecosystem, foster competition, lower costs for consumers and network operators, and strengthen our supply chain.

Today's fifth generation wireless technology (known as “5G”) infrastructure market is highly consolidated, with a small group of vendors making up the majority of the marketplace. This lack of competition can reduce supply chain resilience and security, contribute to higher prices, and make it challenging for new, innovative U.S. companies to break into the market. Additionally, certain equipment and services produced or provided by particular vendors in this marketplace have been deemed to pose an unacceptable risk to the national security of the United States.¹ Some of these vendors, including Chinese telecommunications companies Huawei Technologies Company and ZTE Corporation have been shown to have links to the Chinese government and/or the Chinese Communist Party, giving rise to security risks.² Those risks are compounded by financial support from the government of China and preferential access to the Chinese market, which enable them to offer lower cost financing terms and, in some cases, below-market export credit subsidies to foreign mobile operators to purchase their equipment. The United States Government is working to mobilize the full range of department and agency tools and coordinating with like-minded partners to support foreign mobile network operators in procuring trusted, secure RAN.

¹ See the Federal Communications Commission's List of Equipment and Services Covered by Section 2 of The Secure Networks Act, https://www.fcc.gov/supplychain/coveredlist.

² See, e.g., Permanent Select Committee on Intelligence, U.S. House of Representatives, Investigative Report on the U.S. National Security Issues Posed by Chinese Telecommunications Companies Huawei and ZTE at iv (Oct. 8, 2012), https://republicans-intelligence.house.gov/sites/intelligence.house.gov/files/documents/huaweizte%20investigative%20report%20(final).pdf.

To help inform development and administration of the Innovation Fund grant program, NTIA has established multiple avenues for the public to offer input, including through a Request for Comment also published today as well as this public virtual listening session. NTIA seeks input from all interested stakeholders—including private industry, academia, civil society, and other experts. The discussions held at this session will be analyzed to help inform, among other items: the kinds of grant criteria NTIA should consider, recommendations on the types of projects and programs the Innovation Fund should aim to support, and practical solutions to the chief challenges of open, interoperable, and standards-based RAN adoption.

Time and Date: NTIA will convene the public listening session on January 24, 2023, from 10 a.m. to 12:30 p.m. Eastern Standard Time. The exact time of the meeting is subject to change. Please refer to NTIA's website, https://www.ntia.gov, for the most current information.

Place: The meeting will be held virtually, with online slide share and dial-in information to be posted at https://www.ntia.gov. Please refer to NTIA's website, https://www.ntia.gov, for the most current information.

Other Information: The meeting is open to the public and the press on a first-come, first-served basis. The virtual meeting is accessible to people with disabilities. Individuals requiring accommodations such as real-time captioning, sign language interpretation or other ancillary aids should notify the Department at InnovationFund@ntia.gov at least seven (7) business days prior to the meeting. Access details for the meeting are subject to change. Please refer to NTIA's website, https://www.ntia.gov, for the most current information.

Dated: December 7, 2022.
Josephine Arnold,
Senior Attorney-Advisor.

[FR Doc. 2022-26939 Filed 12-12-22; 8:45 am]

BILLING CODE 3510-60-P